INTERNATIONAL TRADE COMMISSION

[USITC SE-14-010]

Sunshine Act Meeting

TIME AND DATE: April 17, 2014 at 11 a.m.

PLACE: Room 101, 500 E Street SW., Washington, DC 20436, Telephone: (202) 205-2000.

STATUS: Open to the public

MATTERS TO BE CONSIDERED:

1. Agendas for future meetings: None

2. Minutes

3. Ratification List

4. Vote in Inv. No. 731-TA-1214 (Final) (Steel Threaded Rod from Thailand). The Commission is currently scheduled to complete and file its determination and views of the Commission on May 1, 2014.

5. Outstanding action jackets: None

In accordance with Commission policy, subject matter listed above, not disposed of at the scheduled meeting, may be carried over to the agenda of the following meeting.

By order of the Commission:
Issued: April 7, 2014.
William R. Bishop,
Supervisory Hearings and Information Officer.

[FR Doc. 2014-08133 Filed 4-8-14; 11:15 am]

BILLING CODE 7020-02-P